NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by January 3, 2013. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application: 2013-025

1. Applicant: Alison Cleary, University of Rhode Island, Graduate School of Oceanography, South Ferry Road, Narragansett, RI 02882.

Activity for Which Permit Is Requested

Introduce non-indigenous species into Antarctica. The applicant will use 5 × 100 mls each of Ditylum brightwellii, Heterocapsa triguetra, and Tallassiosira rotula cultures, as well as 500 grams of Artemia salina cysts as food for krill. They plan to measure how fast DNA is digested by feeding a group of krill a single prey type, and then taking away the prey, and preserving krill at a series of later time points. By measuring how much of the prey DNA is left in the krill guts after various amounts of time since feeding, they can calculate how quickly the DNA was digested. Applying this calculation to measurements of prey DNA in the stomachs of wild krill, they can then determine how much of each tpe of prey the wild krill were eating.

Location

West Antarctic Peninsula, specifically Flanders, Andvord, Wilhelmina and Charlotte Bays, and in the adjacent areas of the Gerlache Strait.

Dates

March 1, 2013 to March 1, 2014

Nadene G. Kennedy,
Permit Officer, Office of Polar Programs.

[FR Doc. 2012-29226 Filed 12-3-12; 8:45 am]

BILLING CODE 7555-01-P